DEPARTMENT OF THE INTERIOR

Fish and Wildlife Service

[FWS-R8-FHC-2009-N248; 81331-1334-8TWG-W4]

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). The TMC interprets and recommends policy, coordinates and reviews management actions, and provides organizational budget oversight. This notice announces a TAMWG meeting, which is open to the public.

DATES: TAMWG will meet from 1 to 5 p.m. on Monday, December 14, 2009, and from 8:30 a.m. to 5 p.m. on Tuesday, December 15, 2009.

ADDRESSES: The meeting will be held at the Weaverville Victorian Inn, 1709 Main St., 299 West Weaverville, CA 96093.

FOR FURTHER INFORMATION CONTACT: Meeting information: Randy A. Brown, TAMWG Designated Federal Officer, U.S. Fish and Wildlife Service, 1655 Heindon Road, Arcata, CA 95521; telephone: (707) 822-7201. Trinity River Restoration Program (TRRP) information: Mike Hamman, Executive Director, Trinity River Restoration Program, P.O. Box 1300, 1313 South Main Street, Weaverville, CA 96093; telephone: (530) 623-1800; e-mail: mhamman@mp.usbr.gov.

SUPPLEMENTARY INFORMATION: Under section 10(a)(2) of the Federal Advisory Committee Act (5 U.S.C. App.), this notice announces a meeting of the TAMWG. The meeting will include discussion of the following topics:

• TAMWG role and effectiveness in Trinity River Restoration Program;

• TRRP staff organization;

• TRRP science program;

• TRRP budget process and budget update;

• Trinity River channel rehabilitation projects;

• Trinity reservoir operations;

• Proposed Klamath River dam removal; and

• Tribal harvest management and allocation.

Completion of the agenda is dependent on the amount of time each item takes. The meeting could end early if the agenda has been completed.

Dated: November 17, 2009.
Randy A. Brown,
Designated Federal Officer, Arcata Fish and Wildlife Office, Arcata, CA.

[FR Doc. E9-28070 Filed 11-20-09; 8:45 am]

BILLING CODE 4310-55-P